NATIONAL AERONAUTICS AND SPACE ADMINISTRATION

[Notice: (21-063)]

NASA Planetary Science Advisory Committee Meeting; Cancellation

AGENCY: National Aeronautics and Space Administration.

ACTION: Notice of meeting cancellation.

SUMMARY: In accordance with the Federal Advisory Committee Act, the National Aeronautics and Space Administration (NASA) announces that the planned meeting on October 18-19, 2021, of the Planetary Science Advisory Committee is cancelled. This meeting was announced in the Federal Register on September 24, 2021, (see reference below). The cancellation of this meeting is due to NASA administrative priorities. NASA will announce the new dates for this meeting in a future Federal Register notice.

SUPPLEMENTARY INFORMATION: REF: Federal Register/Vol. 86, No. 183/Friday September 24, 2021/Notices; page 53117-53118.

Patricia Rausch,
Advisory Committee Management Officer, National Aeronautics and Space Administration.

[FR Doc. 2021-21653 Filed 10-4-21; 8:45 am]

BILLING CODE 7510-13-P